DEPARTMENT OF COMMERCE

Foreign-Trade Zones Board

[S-235-2025]

Foreign-Trade Zone 222; Denial of Subzone Status; Ryder Integrated Logistics, Inc.; Hope Hull, Alabama

On July 21, 2025, the Executive Secretary of the Foreign-Trade Zones (FTZ) Board docketed an application submitted by the Montgomery Area Chamber of Commerce, grantee of FTZ 222, requesting subzone status subject to the existing activation limit of FTZ 222, on behalf of Ryder Integrated Logistics, Inc., in Hope Hull, Alabama.

The application was processed in accordance with the FTZ Act and Regulations, including notice in the Federal Register inviting public comment (90 FR 34837, July 24, 2025). The FTZ staff examiner reviewed the application and determined that it does not meet the criteria for approval. Pursuant to the authority delegated to the FTZ Board Executive Secretary (15 CFR 400.36(f)), the application to establish a subzone within FTZ 222 was denied on September 18, 2025.

Dated: September 18, 2025.
Elizabeth Whiteman,
Executive Secretary.

[FR Doc. 2025-18295 Filed 9-19-25; 8:45 am]

BILLING CODE 3510-DS-P